DEPARTMENT OF ENERGY

Federal Energy Regulatory Commission

[Project No. 2720-032—Michigan/Wisconsin]

City of Norway, Michigan; Notice of Availability of Environmental Assessment

February 7, 2001.

In accordance with the National Environmental Policy Act of 1969 and the Federal Energy Regulatory Commission's (Commission) regulations, 18 CFR part 380 (Order No. 486, 52 FR 47897), the Office of Energy Projects has reviewed the application for amendment of license for the existing Sturgeon Falls Hydroelectric Project, located on the Menominee River in Dickinson County, Michigan, and Marinette County, Wisconsin, and has prepared an Environmental Assessment (EA) for the project. In the EA, the Commission staff has analyzed the potential environmental effects of the proposed license amendment and has concluded that approval of the proposed action, with staff-recommended measures, would not constitute a major Federal action significantly affecting the quality of the human environment.

Copies of the EA are available for review in the Commission's Public Reference Branch, Room 2A, located at 888 First Street, NE., Washington, DC 20426. The EA may also be viewed on the Internet at http://www.ferc.fed.us/online/rims.htm. Please call (202) 208-2222 for assistance.

Any comments should be filed within 30 days from the date of this notice and should be addressed to David P. Boergers, Secretary, Federal Energy Regulatory Commission, 888 First Street, NE., Washington, DC 20426. Please affix “Sturgeon Falls Project, FERC Project No. 2720-032” to all comments. For further information, please contact Patti Leppert at (202) 219-2767. Comments and protests may be filed electronically via the Internet in lieu of paper. See, 18 CFR 385.2001(a)(1)(iii) and the instructions on the Commission's web site at ­ http://www.ferc.fed.us/efi/doorbell.htm.

David P. Boergers,
Secretary.

[FR Doc. 01-3577 Filed 2-12-01; 8:45 am]

BILLING CODE 6717-01-M